DEPARTMENT OF COMMERCE

National Oceanic and Atmospheric Administration

50 CFR Parts 600 and 660

[Docket No. 011231309-1309-01; I.D. 121301A]

RIN 0648-AO69

Magnuson-Stevens Act Provisions; Fisheries off the West Coast States and in the Western Pacific; Pacific Coast Groundfish Fishery; Groundfish Fishery Management Measures; Corrections

AGENCY: National Marine Fisheries Service (NMFS), National Oceanic and Atmospheric Administration (NOAA), Commerce.

ACTION: Corrections to the emergency rule; January through February 2002 Pacific Coast groundfish fishery management measures.

SUMMARY: This document contains corrections to the emergency rule for the January through February 2002 Pacific Coast groundfish fishery management measures published on January 11, 2002.

DATES: Effective January 28, 2002 through February 28, 2002.

FOR FURTHER INFORMATION CONTACT: Carrie Nordeen, NMFS, (206)-526-6140.

SUPPLEMENTARY INFORMATION:

Background

The emergency rule for the January through February 2002 management measures for groundfish taken in the U.S. exclusive economic zone and state waters off the coasts of Washington, Oregon, and California, as authorized by the Pacific Coast Groundfish Fishery Management Plan, were published in the Federal Register on January 11, 2002 (67 FR 1540). This emergency rule contained a number of errors that require correction.

Corrections

In the rule FR Doc. 01-32261, in the issue of Friday, January 11, 2002 (67 FR 1540) make the following corrections:

1. On page 1541, in the second column, paragraph A.(1)(c), the first sentence is corrected to read as follows:

“(c) A weekly trip limit is the maximum amount that may be taken and retained, possessed, or landed per vessel in 7 consecutive days, starting at 0001 hours 1.t. on Sunday and ending at 2400 hours 1.t. on Saturday.”

2. On page 1542, in the third column, paragraph A.(11), the third and fourth sentences are corrected to read as follows:

“If a vessel has a limited entry permit and uses open access gear, but the open access limit is smaller than the limited entry limit, the open access cannot be exceeded and counts toward the limited entry limit. If a vessel has a limited entry permit and uses open access gear, but the open access limit is larger than the limited entry limit, the smaller limited entry limit applies, even if taken entirely with open access gear.”

3. On page 1543, in the second column, paragraph A.(13)(a)(i) is corrected to read as follows:

“(i) Coastwide - widow rockfish, canary rockfish, darkblotched rockfish, yelloweye rockfish, shortbelly rockfish, minor nearshore rockfish, minor shelf rockfish, minor slope rockfish, shortspine and longspine thornyhead, Dover sole, arrowtooth flounder, rex sole, petrale sole, other flatfish, lingcod, sablefish, and Pacific whiting;”

4. On page 1543, in the third column, paragraph A.(14)(a)(iii), the first sentence is corrected to read as follows:

“(iii) Midwater trawl gear is pelagic trawl gear, as specified at 50 CFR 660.302 and 660.322 (b)(5).”

5. On page 1544, in the first column, paragraph A.(14)(b)(v), the heading is corrected to read as follows:

“(iv) More than one type of trawl gear on board.”

6. On page 1544, in the third column, paragraph A.(19)(h)(ii) is corrected to read as follows:

“(ii) Columbia—47°30′ to 43°00′ N. lat.”

7. On pages 1548 and 1549, Table 2 and 3, respectively, and their footnotes are corrected to read as follows:

* * * * *

BILLING CODE 3510-22-S

8. On page 1550, in the third column, paragraph B.(4), the last sentence is corrected to read as follows:

“The crossover provisions at paragraphs A.(12) do not apply to the black rockfish per-trip limits.”

9. On page 1550, in the third column, paragraph C.(1), the second to last sentence is corrected to read as follows:

“The trip limit at 50 CFR 660.323 (a)(1) for black rockfish caught with hook-and-line gear also applies.”

10. On page 1551, Table 4 and its footnotes are corrected to read as follows:

* * * * *

11. On page 1552, in the third column, paragraph D.(1), the first sentence is corrected to read as follows:

“(1) California. (Note: California law provides that, in times and areas when the recreational fishery is open, there is a 20-fish bag limit for all species of finfish, within which no more than 10 fish of any one species may be taken or possessed by any one person.)”

Dated: January 21, 2002.
William T. Hogarth,
Assistant Administrator for Fisheries, National Marine Fisheries Service.

[FR Doc. 02-1999 Filed 1-25-02; 8:45 am]

BILLING CODE 3510-22-S